DEPARTMENT OF COMMERCE

International Trade Administration

Antidumping or Countervailing Duty Order, Finding, or Suspended Investigation; Amendment to Notice of Opportunity To Request Administrative Review

AGENCY: Import Administration, International Trade Administration, Department of Commerce.

ACTION: Amendment to notice of Opportunity to Request Administrative Review of Antidumping or Countervailing Duty Order, Finding, or Suspended Investigation.

SUMMARY: This is an amendment to the notice of “Opportunity to Request Administrative Review of Antidumping or Countervailing Duty Order, Finding, or Suspended Investigation” published on May 1, 2003 (68 FR 23281).

EFFECTIVE DATE: May 15, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION: This notice is an amendment to the “Opportunity to Request Administrative Review” notice published on May 1, 2003 (68 FR 23281). As explained in the notice the Department published on May 6, 2003, “Antidumping and Countervailing Duty Proceedings: Assessment of Antidumping Duties,” 68 FR 23954, the Department has clarified its practice with respect to the collection of final antidumping duties on imports of merchandise where intermediate firms are involved. The public should be aware of this clarification in determining whether to request an adminstrative review of merchandise subject to antidumping findings and orders. See also the Import Administration Web site at http://www.ia.ita.doc.gov.

The clarification applies to all entries for which the anniversary month for requesting an administrative review of an antidumping duty order or finding is May 2003 or later, beginning with the orders cited in the opportunity notice for May 2003 anniversary cases which published on May 1, 2003 (68 FR 23281).

Further, the clarification addresses the assessment of duties on imports of merchandise from a market-economy country subject to an antidumping duty order. The clarification does not apply to imports of merchandise from non-market-economy (NME) countries which may be subject to an antidumping duty order. In addition, the clarification does not apply to imports of merchandise subject to a countervailing duty order because this issue does not arise in the subsidy enforcement context.

Dated: May 9, 2003.
Holly A. Kuga,
Acting Deputy Assistant Secretary, Group II for Import Administration.

[FR Doc. 03-12185 Filed 5-14-03; 8:45 am]

BILLING CODE 3510-DS-P